DEPARTMENT OF COMMERCE

National Oceanic and Atmospheric Administration

Caribbean Fishery Management Council (CFMC); Public Meetings

AGENCY: National Marine Fisheries Service (NMFS), National Oceanic and Atmospheric Administration (NOAA), Commerce.

ACTION: Notice of Caribbean Fishery Management Council's Scientific and Statistical Committee (SSC), District Advisory Panels (DAPs) and one day Council Meeting.

SUMMARY: The Caribbean Fishery Management Council's Scientific and Statistical Committee, the District Advisory Panels, and the Caribbean Council will hold a three-day meeting.

DATES: The meetings will be held on March 15-17, 2016. See SUPPLEMENTARY INFORMATION for specific dates and times.

ADDRESSES: The meetings will be held at the Verdanza Hotel, Tartak St. San Juan, Puerto Rico.

FOR FURTHER INFORMATION CONTACT: Caribbean Fishery Management Council, 270 Muñoz Rivera Avenue, Suite 401, San Juan, Puerto Rico 00918-1903, telephone (787) 766-5926.

SUPPLEMENTARY INFORMATION: The Caribbean Fishery Management Council's SSC, the District Advisory Panels, and the Caribbean Council will hold a three-day meeting to discuss the items contained in the following agenda:

March 15-16, 2016

9 a.m.-5 p.m.

Joint SSC-DAPs-CFMC

—Call to Order

—Adoption of Agenda

—Dr. Richard Methot, NOAA Senior Scientist for Stock Assessment

—Implementation of the Assessment Prioritization Process

—Island Based Fishery Management

—Review Goals and Objectives of the IBFMPs

—Review Action 1: Species Selection

—Action 2: Species Complexes—SERO Update

—Recommendations to CFMC

—Future Action 3: Reference Points

—ABC Control Rule

—SEDAR 46 U.S. Caribbean Data Limited Species Update—SEFSC

March 17, 2016

9 a.m.-12 p.m.

SSC Meeting

—5 year CFMC Research Plan

—Finalize 5-year Research Plan

—Other Business

DAPs Individual Meeting

—Recommendations to the CFMC

CFMC Individual Meeting

—Review Goals and Objectives for the IBFMPs—Guidance to Staff

—ABC Control Rule

—Exempted Fishing Permit Application Submitted by Dept. of Natural and Environmental Resources, PR.

The District Advisory Panels will meet individually on March 17, 2015, from 9 a.m. to 12 p.m., to discuss their reaction to the information received at the SSC Meeting, and to provide their recommendations to the CFMC. The Caribbean Fishery Management Council will meet on March 17, 2016, from 9 a.m. to 12 p.m., to discuss the information received from the SSC meeting, the ABC Control Rule, and to review an exempted permit application.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: February 23, 2016.
Tracey L. Thompson,
Acting Deputy Director, Office of Sustainable Fisheries, National Marine Fisheries Service.

[FR Doc. 2016-04167 Filed 2-25-16; 8:45 am]

BILLING CODE 3510-22-P